DEPARTMENT OF HEALTH AND HUMAN SERVICES

Centers for Disease Control and Prevention

Meeting of the Community Preventive Services Task Force (CPSTF)

AGENCY: Centers for Disease Control and Prevention (CDC), Department of Health and Human Services (HHS).

ACTION: Notice of meeting.

SUMMARY: The Centers for Disease Control and Prevention (CDC), within the Department of Health and Human Services (HHS), announces the next meeting of the Community Preventive Services Task Force (CPSTF) on April 19-20, 2023.

DATES: The meeting will be held on Wednesday, April 19, 2023, from 9 a.m.-5 p.m., EDT, and Thursday, April 20, 2023, from 9 a.m.-5 p.m., EDT.

ADDRESSES: The meeting will be available to the public via web conference.

FOR FURTHER INFORMATION CONTACT: Kenya Turner, Office of Science; Centers for Disease Control and Prevention, 1600 Clifton Road NE, MS H21-10, Atlanta, GA 30329; Telephone: (404) 718-4592; Email: CPSTF@cdc.gov.

SUPPLEMENTARY INFORMATION:

Meeting Accessibility: The CPSTF meeting will be available to the public via web conference.

CDC will send web conference information to registrants upon receipt of their registration. All meeting attendees must register by April 12, 2023, to receive the web conference information for the meeting. CDC will email web conference information from the CPSTF@cdc.gov mailbox.

To register for the meeting, individuals should send an email to CPSTF@cdc.gov and include the following information: name, title, organization name, organization address, phone number, and email.

Public Comment: Individuals who would like to make public comments during the April 2023 meeting must state their desire to do so with their registration and provide their name and organizational affiliation and the topic to be addressed (if known). The requestor will receive instructions for the public comment process for this meeting after the request is received. A public comment period follows the CPSTF's discussion of each systematic review and will be limited to no more than three minutes per person. Public comments will become part of the meeting summary.

Background on the CPSTF: The CPSTF is an independent, nonfederal panel whose members are appointed by the CDC Director. CPSTF members represent a broad range of research, practice, and policy expertise in prevention, wellness, health promotion, and public health. The CPSTF was convened in 1996 by HHS to identify community preventive programs, services, and policies that increase health, longevity, save lives and dollars, and improve Americans' quality of life. CDC is mandated to provide ongoing administrative, research, and technical support for the operations of the CPSTF. During its meetings, the CPSTF considers the findings of systematic reviews of existing research and practice-based evidence and issues recommendations. CPSTF recommendations are not mandates for compliance or spending. Instead, they provide information about evidence-based options that decision makers and affected community members can consider when they are determining what best meets the specific needs, preferences, available resources, and constraints of their jurisdictions and constituents. The CPSTF's recommendations, along with the systematic reviews of the evidence on which they are based, are compiled on the Community Guide website (www.thecommunityguide.org).

Matters proposed for discussion: The agenda will consist of deliberation on systematic reviews of literature, and the meeting is open to the public via web conference. Topics for the April 2023 meeting will include Mental Health, Substance Use, Preparedness and Response, Cancer, and Oral Health. Information regarding the start and end times for each day, and any updates to agenda topics, will be available on the Community Guide website (www.thecommunityguide.org) closer to the date of the meeting.

The meeting agenda is subject to change without notice.

Dated: February 27, 2023.
Tiffany Brown,
Acting Executive Secretary, Centers for Disease Control and Prevention.

[FR Doc. 2023-04354 Filed 3-2-23; 8:45 am]

BILLING CODE 4163-18-P